DEPARTMENT OF LABOR

Employment and Training Administration

[TA-W-52,676, et al.]

Defender Services, Inc., Working at Pillowtex Plant #1, Kannapolis, NC, et al.; Notice of Negative Determination Regarding Application for Reconsideration

By application of September 17, 2003, a petitioner requested administrative reconsideration of the Department's negative determination regarding eligibility for workers and former workers of Pillowtex Plant #1, Kannapolis, North Carolina (TA-W-52,676), Pillowtex Plant #16, Salisbury, North Carolina (TA-W-52,676A), Pillowtex Plant #6, Concord, North Carolina (TA-W-52,676B) and Pillowtex Plant, Eden, North Carolina (TA-W-52,676C) to apply for Trade Adjustment Assistance (TAA). The decision notice was signed on September 9, 2003 and published in the Federal Register on October 10, 2003 (68 FR 58719).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a misinterpretation of facts or of the law justified reconsideration of the decision.

The petition for the workers of Pillowtex Plant #1, Kannapolis, North Carolina (TA-W-52,676), Pillowtex Plant #16, Salisbury, North Carolina (TA-W-52,676A), Pillowtex Plant #6, Concord, North Carolina (TA-W-52,676B) and Pillowtex Plant, Eden, North Carolina (TA-W-52,676C) was denied because the “upstream supplier” group eligibility requirement of Section 222(b) of the Trade Act of 1974, as amended, was not met.

The “upstream supplier” requirement is fulfilled when the workers” firm (or subdivision) is a supplier to a firm that employed a group of workers who received a certification of eligibility to apply for trade adjustment assistance benefits and such supply or production is related to the article that was the basis for such certification. The workers of the subject firm did not act as an upstream supplier to a trade certified firm.

The petitioner notes that other contractors have been certified for trade adjustment assistance and thus appears to imply that the petitioning workers should be eligible for trade adjustment assistance as import impacted secondary workers.

When addressing the issue of import impact in a case of secondary impact, the Department considers whether the subject firm supplied a component in a product produced by a trade certified firm. As the subject firm did not produce a component used in the product of Pillowtex Corporation, the allegation of secondary import impact is invalid.

Further, the subject firm does not produce an article within the meaning of Section 222 of the Trade Act. Only in very limited instances are service workers certified for trade adjustment assistance, namely the worker separations must be caused by a reduced demand for their services from a parent or controlling firm or subdivision whose workers produce an article and who are currently under certification for trade adjustment assistance. A further investigation revealed that the workers of Pillowtex Plant #1, Kannapolis, North Carolina (TA-W-52,676), Pillowtex Plant #16, Salisbury, North Carolina (TA-W-52,676A), Pillowtex Plant #6, Concord, North Carolina (TA-W-52,676B) and Pillowtex Plant, Eden, North Carolina (TA-W-52,676C) do not meet the criteria to be certified for trade adjustment assistance.

Conclusion

After review of the application and investigative findings, I conclude that there has been no error or misinterpretation of the law or of the facts which would justify reconsideration of the Department of Labor's prior decision. Accordingly, the application is denied.

Signed at Washington, DC, this 3rd day of November, 2003.
Elliott S. Kushner,
Certifying Officer, Division of Trade Adjustment Assistance.

[FR Doc. 03-29546 Filed 11-25-03; 8:45 am]

BILLING CODE 4510-30-P